OFFICE OF PERSONNEL MANAGEMENT

Submission for Review: Request To Change Federal Employees Health Benefits (FEHB) Enrollment for Spouse Equity/Temporary Continuation of Coverage (TCC) Enrollees/Direct Pay Annuitants (DPRS 2809)

AGENCY: U.S. Office of Personnel Management.

ACTION: 30-Day notice and request for comments.

SUMMARY: The Retirement Services, Office of Personnel Management (OPM) offers the general public and other federal agencies the opportunity to comment on a revised information collection request (ICR) 3206-0202, Request to Change Federal Employees Health Benefits (FEHB) Enrollment for Spouse Equity/Temporary Continuation of Coverage (TCC) Enrollees/Direct Pay Annuitants. As required by the Paperwork Reduction Act of 1995 (Pub. L. 104-13, 44 U.S.C. chapter 35) as amended by the Clinger-Cohen Act (Pub. L. 104-106), OPM is soliciting comments for this collection. The information collection was previously published in the Federal Register on April 11, 2011 at Volume 76 FR 18810 allowing for a 60-day public comment period. We received comments from one organization. Based on those comments, several changes have been made to this information collection that makes it consistent with the Affordable Care Act (Pub. L. 111-48). The purpose of this notice is to allow an additional 30 days for public comments. The Office of Management and Budget is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until September 26, 2011. This process is conducted in accordance with 5 CFR 1320.1.

ADDRESSES: Interested persons are invited to submit written comments on the proposed information collection to the Office of Information and Regulatory Affairs, Office of Management and Budget, 725 17th Street, NW., Washington, DC 20503, Attention: Desk Officer for the Office of Personnel Management or sent via electronic mail to oira_submission@omb.eop.gov or faxed to (202) 395-6974.

FOR FURTHER INFORMATION CONTACT: A copy of this ICR, with applicable supporting documentation, may be obtained by contacting the Office of Information and Regulatory Affairs, Office of Management and Budget, 725 17th Street, NW., Washington, DC 20503, Attention: Desk Officer for the Office of Personnel Management or sent via electronic mail to oira_submission@omb.eop.gov or faxed to (202) 395-6974.

SUPPLEMENTARY INFORMATION: The Request to Change Federal Employees Health Benefits (FEHB) Enrollment for Spouse Equity/Temporary Continuation of Coverage (TCC) Enrollees/Direct Pay Annuitants is used by former spouses currently enrolled under the Spouse Equity provision of law, TCC enrollees, and Direct Pay Annuitants to change their FEHB enrollment during open season.

Analysis

Agency: Federal Employee Insurance Operations, Healthcare and Insurance, Office of Personnel Management

Title: Request to Change Federal Employees Health Benefits (FEHB) Enrollment for Spouse Equity/Temporary Continuation of Coverage (TCC) Enrollees/Direct Pay Annuitants.

OMB Number: 3206-0202.

Frequency: On occasion.

Affected Public: Individuals or households.

Number of Respondents: 27,000.

Estimated Time per Respondent: 45 minutes.

Total Burden Hours: 20,250.

U.S. Office of Personnel Management.
John Berry,
Director.

[FR Doc. 2011-21783 Filed 8-24-11; 8:45 am]

BILLING CODE 6325-38-P